LEGAL SERVICES CORPORATION

Sunshine Act Meeting of the Board of Directors Operations and Regulations Committee

Time and Date: The Operations and Regulations Committee of the Legal Services Corporation Board of Directors will meet June 5, 2004. The meeting will begin at 9 a.m., and continue until completion of the Committee's agenda.

Location: The Hilton Omaha, Hill Room, 1001 Cass Street, Omaha, Nebraska 68102.

Status of Meeting: Open.

Matters to be Considered:

Open Session

1. Approval of agenda.

2. Approval of the Committee's meeting minutes of May 1, 2004.

3. Consider and act on retainer agreement and group representation issues relating to LSC open rulemaking on financial eligibility, 45 CFR part 1611:

a. Staff report; and

b. Public comment.

4. Consider and act on revisions to the standard LSC Grant Assurances that LSC requires of its grantees:

a. Staff report; and

b. Public comment.

5. Other public comment.

6. Consider and act on other business.

7. Consider and act on adjournment of meeting.

Contact Person for Information: Patricia D. Batie, Manager of Board Operations, at (202) 295-1500.

Special Needs: Upon request, meeting notices will be made available in alternate formats to accommodate visual and hearing impairments. Individuals who have a disability and need an accommodation to attend the meeting may notify Patricia D. Batie, at (202) 295-1500.

Dated: May 26, 2004.
Victor M. Fortuno,
Vice President for Legal Affairs, General Counsel & Corporate Secretary.

[FR Doc. 04-12584 Filed 5-28-04; 1:37 pm]

BILLING CODE 7050-01-P